DEPARTMENT OF HEALTH AND HUMAN SERVICES

Centers for Disease Control and Prevention

Board of Scientific Counselors, Office of Public Health Preparedness and Response (BSC, OPHPR)

In accordance with section 10(a)(2) of the Federal Advisory Committee Act (Pub. L. 92-463), the Centers for Disease Control and Prevention (CDC), announces the following meeting of the aforementioned committee:

Times and Dates:

9:30 a.m.-3 p.m., August 21, 2012; 9:30 a.m.-3 p.m., August 22, 2012.

Place: CDC, 1600 Clifton Road NE., Roybal Campus, Building 19, Auditorium B2, Atlanta, Georgia 30329.

Status: Open to the public limited only by the space available. The meeting room will accommodate up to 30 people. Public participants should pre-register for the meeting as described in Additional Information for Public Participants.

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://www.cdc.gov/phpr/science/counselors.htm.

Matters to be Discussed: Agenda items for this meeting include: (1) Briefings and BSC deliberation on the following topics: OPHPR International Activities; National Health Security Preparedness Index Update; update on the activities of the joint BSC-National Biodefense Science Board Strategic National Stockpile ad hoc working group; CDC's response to laboratory biosafety issues; Public Health Emergency Medical Countermeasure Enterprise (PHEMCE) and CDC's smallpox vaccine program; OPHPR's national policy initiatives; history and overview of the Preparedness and Emergency Response Learning Centers; update on CDC's biosurveillance and situational awareness activities; (2) BSC liaison representative updates to the Board highlighting organizational activities relevant to the OPHPR mission.

Agenda items are subject to change as priorities dictate.

Additional Information for Public Participants: Members of the public that wish to attend this meeting should pre-register by submitting the following information by email, facsimile, or phone (see Contact Person for More Information) no later than 12 noon (EDT) on Monday, August 13, 2012:

• Full Name,

• Organizational Affiliation,

• Complete Mailing Address,

• Citizenship, and

• Phone Number or Email Address.

Contact Person for More Information: Marquita Black, Office of Science and Public Health Practice Executive Assistant, Centers for Disease Control and Prevention, 1600 Clifton Road NE., Mailstop D-44, Atlanta, Georgia 30333, telephone (404) 639-7325; facsimile (404) 639-7977; email: OPHPR.BSC.Questions@cdc.gov.

The Director, Management Analysis and Services Office, has been delegated the authority to sign Federal Register notices pertaining to announcements of meetings and other committee management activities for both the Centers for Disease Control and Prevention and the Agency for Toxic Substances and Disease Registry.

Dated: July 27, 2012.
Catherine Ramadei,
Acting Director, Management Analysis and Services Office, Centers for Disease Control and Prevention.

[FR Doc. 2012-18852 Filed 8-1-12; 8:45 am]

BILLING CODE 4163-18-P